ENVIRONMENTAL PROTECTION AGENCY

[EPA-HQ-OA-2006-0566; FRL-8241-5]

Agency Information Collection Activities; Submission to OMB for Review and Approval; Comment Request; Assessment of EPA Partnership Programs; EPA ICR No. 2225.01

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before December 14, 2006.

ADDRESSES: Submit your comments, referencing Docket ID No. EPA-HQ-OA-2006-0566, to (1) EPA online using www.regulations.gov (our preferred method), by e-mail to oei.docket@epa.gov, or by mail to: EPA Docket Center, Environmental Protection Agency, OEI Docket, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jamie Burnett, Office of Policy, Economics, and Innovation, Mail Code: 1807T, Environmental Protection Agency, 1200 Pennsylvania Ave., NW., Washington, DC, 20460; telephone number: (202) 566-2205; fax number: (202) 566-2200; e-mail address: burnett.jamie@epa.gov.

SUPPLEMENTARY INFORMATION: EPA has submitted the following ICR to OMB for review and approval according to the procedures prescribed in 5 CFR 1320.12. On July 10, 2006 (71 FR 38878), EPA sought comments on this ICR pursuant to 5 CFR 1320.8(d). EPA received one comment during the period that were not relevant to the ICR. Any additional comments on this ICR should be submitted to EPA and OMB within 30 days of this notice.

EPA has established a public docket for this ICR under Docket ID No. EPA-HQ-OA-2006-0566, which is available for online viewing at www.regulations.gov, or in person viewing at the OEI Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the OEI Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Assessment of EPA Partnership Programs.

ICR numbers: EPA ICR No. 2225.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Environmental Protection Agency (EPA) is seeking approval for a three-year generic clearance from the Office of Management and Budget (OMB) to develop a generic ICR to collect data to be used for performance measurement of EPA Partnership Programs. This will be a voluntary collection of information to assess the activities of EPA Partnership Programs. Performance measurement data collected will detail awareness of associated environmental results. EPA proposes to administer surveys and questionnaires to assess activities for program purpose and design, strategic planning, program management, and program results to determine if the goals of the program are being met.

All assessments undertaken under this ICR will follow stringent procedures to ensure that data are collected and used properly and efficiently. This ICR will provide anecdotal data for the purpose of informing EPA of the perceived effectiveness of partnership programs and will also allow partnership programs to collect data on the environmental results of partner activities due to participation. The information collection is voluntary, and will be limited to non-sensitive data concerning participation in partnership programs.

To help fulfill the broad mandate of protecting human health and the environment, EPA works with businesses, communities, state and local governments, and other organizations to achieve environmental goals through partnership programs. Partnership programs provide organizations with the information and assistance necessary to achieve and maintain various environmental goals.

EPA believes that measuring the performance of partnership programs is important to ensure that partnership programs are reaching the intended audience, providing valuable resources, and achieving the desired environmental results. Understanding this will allow EPA to better design and manage these partnership programs to meet the needs of the participants and to meet EPA's environmental goals. A generic ICR will significantly increase the ability of EPA Partnership Programs to: Determine and evaluate the effectiveness of these partnership programs as well as help the programs obtain data to successfully complete PART reviews; increase the consistency of program performance data as an alternative/adjunct to traditional regulatory approaches for achieving environmental results; minimize approval burden on OMB as submissions will be shorter and of higher quality via the generic ICR process; and reduce burden on potential respondents by limiting the number of requests for information.

Burden Statement: The annual public reporting and recordkeeping burden for this collection of information is estimated to average 2.2 hours per response. Burden means the total time, effort, or financial resources expended by persons to generate, maintain, retain, or disclose or provide information to or for a Federal agency. This includes the time needed to review instructions; develop, acquire, install, and utilize technology and systems for the purposes of collecting, validating and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Participants in all of EPA's Partnership Programs, including businesses, governments, and members of the community.

Estimated Number of Respondents: 5,334.

Frequency of Response: On occasion.

Estimated Total Annual Hour Burden: 11,556 hours.

Estimated Total Annual Cost: $769,702, which includes $0 capital and O&M.

Dated: October 31, 2006.
Oscar Morales,
Director, Collection Strategies Division.

[FR Doc. E6-19172 Filed 11-13-06; 8:45 am]

BILLING CODE 6560-50-P